DEPARTMENT OF COMMERCE

International Trade Administration

[A-570-825]

Sebacic Acid from the People's Republic of China; Notice of Rescission of Antidumping Administrative Review

AGENCY: Import Administration, International Trade Administration, Department of Commerce.

ACTION: Notice of rescission of antidumping duty administrative review.

SUMMARY: On August 27, 2002, in response to requests by two exporters, the Department of Commerce initiated an administrative review of the antidumping duty order on sebacic acid from the People's Republic of China. The period of review is July 1, 2001, through June 30, 2002. The requests for administrative review were made by two exporters of the subject merchandise, Guangdong Chemicals Import and Export Co. and Tianjin Chemicals Import and Export Co. This review has now been rescinded as a result of the timely withdrawal of the requests for administrative review by both exporters, as no other interested party requested the review.

EFFECTIVE DATE: October 17, 2002.

FOR FURTHER INFORMATION CONTACT: Michael Strollo, Office of AD/CVD Enforcement, Import Administration, International Trade Administration, U.S. Department of Commerce, 14th Street and Constitution Avenue, NW., Washington, DC 20230, telephone: (202) 482-0629.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the regulations of the Department of Commerce (the Department) are to 19 CFR part 351 (2002).

Background

On July 1, 2002, the Department published in the Federal Register a notice of “Opportunity to Request an Administrative Review” of the antidumping duty order on sebacic acid from the People's Republic of China (PRC). See Antidumping or Countervailing Duty Order, Finding, or Suspended Investigation; Opportunity To Request Administrative Review, 67 FR 44172 (July 1, 2002). On July 10, 2002, two exporters, Guangdong Chemicals Import and Export Co. (Guangdong) and Tianjin Chemicals Import and Export Co. (Tianjin), requested an administrative review of this antidumping duty order on sebacic acid from the PRC.

In accordance with 19 CFR 351.221(b)(1), we initiated this review on August 27, 2002, covering the period of July 1, 2001, through June 30, 2002. See Initiation of Antidumping and Countervailing Duty Administrative Reviews and Requests for Revocation in Part, 67 FR 55000 (Aug. 27, 2002). On September 10, 2002, both exporters withdrew their requests for administrative review.

Rescission of Review

Guangdong and Tianjin timely withdrew their requests for administrative review for the above-referenced period on September 10, 2002. Therefore, because no other interested party requested a review of either Guangdong or Tianjin for this period of review, in accordance with 19 CFR 351.213(d)(1) and consistent with our practice, we are rescinding this review of the antidumping order on sebacic acid from the PRC for the period of July 1, 2001, through June 30, 2002. This notice is published in accordance with section 751 of the Act and 19 CFR 351.213(d)(4).

Dated: October 9, 2002.
Louis Apple,
Acting Deputy Assistant Secretary Import Administration, Group I.

[FR Doc. 02-26407 Filed 10-16-02; 8:45 am]

BILLING CODE 3510-DS-S